NATIONAL INDIAN GAMING COMMISSION

Paperwork Reduction Act

AGENCY: National Indian Gaming Commission.

ACTION: Notice.

SUMMARY: The National Indian Gaming Commission (NIGC), in accordance with the Paperwork Reduction Act of 1995, is submitting to the Office of Management and Budget (OMB) a request to review and extend approval for the information collection activity associated with the submission of an annual audit report pursuant to 25 CFR 542.3(d) by Indian tribes conducting gaming under the Indian Gaming Regulatory Act. The OMB will consider comments from the public on this information collection activity.

DATES AND ADDRESSES: Comments regarding the NIGC's evaluation of the information collection activity and its request to OMB to extend approval for the information collection must be received by February 4, 2002. When providing comment, a respondent should specify the particular collection activity to which the comment pertains. Send comments to: Office of Information and Regulatory Affairs (Attn: Desk Officer for the National Indian Gaming Commission), Office of Management and Budget, 725 17th Street NW., Washington, DC 20503. The NIGC regulation to which the information collection pertains is available on the NIGC Web site, www.nigc.gov. The regulation is also available by written request to the NIGC (Attn: Michele Mitchell), 1441 L Street NW., Suite 9100, Washington, DC, 20005, or by telephone request at (202) 632-7003. This is not a toll-free number. All other requests for information should be submitted to Michele Mitchell at the above address for the NIGC.

SUPPLEMENTARY INFORMATION: Title: Minimum Internal Control Standards.

OMB Number: 3141-0009.

Abstract: The Indian Gaming Regulatory Act, 25 U.S.C. 2701 et seq., authorizes the NIGC to promulgate regulations sufficient to shield Indian gaming from corrupting influences, to ensure that the tribes are the primary beneficiaries of gaming and to assure that Indian gaming is fair and honest. The NIGC's Minimum Internal Control standards provide a baseline from which to gauge whether a tribe has implemented controls sufficient to protect the assets of its gaming operation(s). The information required by 25 CFR 542.3(d) is essential to the Commission's ability to fulfill its oversight responsibilities. This evaluation may be completed within the annual financial audit of the gaming operation and does not require a separate audit of the gaming operation's internal control system.

Respondents: Indian tribal gaming operations.

Estimated Number of Respondents: 315.

Estimated Annual Responses: 315.

Estimated Annual Burden Hours per Respondent: 120 hrs.

Estimated Total Annual Burden on Respondents: 37,800 hours.

Estimated Total Annual Cost Burden: $3,780,000.

Richard Schiff,
Deputy Chief of Staff.

[FR Doc. 02-182 Filed 1-3-02; 8:45 am]

BILLING CODE 7565-01-P